DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Northwest Hawaiian Islands National Marine Monument.

Form Number(s): None.

OMB Approval Number: 0648-0548.

Type of Request: Regular submission.

Burden Hours: 1,456.

Number of Respondents: 87.

Average Hours Per Response: General, recreation and Native Hawaiian practices permits, 5 hours; special ocean use permits, 24 hours; VMS purchase and installation and VMS maintenance, 4 hours; VMS certification and entry and exit notification, 5 minutes; and hourly VMS reports, 5 seconds.

Needs and Uses: On June 15, 2006, President Bush established the Northwestern Hawaiian Islands Marine National Monument by issuing Presidential Proclamation 8031 (71 FR 36443, June 26, 2006) under the authority of the Antiquities Act (16 U.S.C. 431). The proclamation includes restrictions and prohibitions regarding activities in the monument consistent with the authority provided by the Act. Specifically, the proclamation prohibits access to the monument except when passing through the monument without interruption or as allowed under a permit issued by NOAA and the Department of the Interior's Fish and Wildlife Services (FWS). Vessels passing through the monument without interruption are required to notify NOAA and FWS upon entering into and leaving the monument. Individuals wishing to access the monument to conduct certain regulated activities must first apply for and be granted a permit issued by NOAA and FWS and certify compliance with certain vessel monitoring system requirements. On August 29, 2006, NOAA and FWS published a final rule codifying the provisions of the proclamation (71 FR 51134).

Affected Public: Federal government, individuals or households, not-for-profit institutions; business or other for-profit; State, Local or Tribal Government.

Frequency: Annually and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: January 24, 2007.
Gwellnar Banks,
Management Analyst, Office of the Chief Information Officer.

[FR Doc. E7-1429 Filed 1-29-07; 8:45 am]

BILLING CODE 3510-22-P